DEPARTMENT OF HOMELAND SECURITY

[Docket No. DHS-2018-0058]

Telecommunications Service Priority System

AGENCY: Office of Cybersecurity and Communications (CS&C), National Protection and Programs Directorate (NPPD), Department of Homeland Security (DHS).

ACTION: 60-Day Notice and request for comments; Extension, 1670-0005.

SUMMARY: DHS NPPD CS&C will submit the following Information Collection Request (ICR) to the Office of Management and Budget (OMB) for review and clearance in accordance with the Paperwork Reduction Act of 1995.

DATES: Comments are encouraged and will be accepted until December 17, 2018.

ADDRESSES: You may submit comments, identified by docket number DHS-2018-0058, by one of the following methods:

• Federal eRulemaking Portal: http://www.regulations.gov. Please follow the instructions for submitting comments.

• Email: deborah.bea@HQ.DHS.GOV. Please include docket number DHS-2018-0058 in the subject line of the message.

• Mail: Written comments and questions about this Information Collection Request should be forwarded to DHS/NPPD/CS&C/OEC, ATTN: 1670-0005, 245 Murray Lane, SW, Mail Stop 0615, Deborah Bea, Arlington, VA 20528.

Instructions: All submissions received must include the words “Department of Homeland Security” and the docket number for this action. Comments received will be posted without alteration at http://www.regulations.gov, including any personal information provided.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: For specific questions related to collection activities, please contact Deborah Bea at 703.705.6302 or at deborah.bea@HQ.DHS.GOV.

SUPPLEMENTARY INFORMATION: Telecommunications Service Priority (TSP) is authorized by E.O. 12472, E.O. 13618 and 47 CFR part 64. The DHS Office of Emergency Communications (OEC) uses the TSP Program to authorize national security and emergency preparedness organizations to receive priority treatment for vital voice and data circuits or other telecommunications service, under National Security or Emergency Preparedness telecommunications (NS/EP). The TSP Program provides service vendors a Federal Communications Commission (FCC) mandate to prioritize requests by identifying those services critical to national security and emergency preparedness. A TSP assignment ensures that it will receive priority attention by the service vendor before any non-TSP service.

Four broad categories serve as guidelines for determining whether a circuit or telecommunications service is eligible for priority provisioning or restoration. TSP service user organizations may be in the Federal, State, local, or tribal government, critical infrastructure sectors in industry, non-profit organizations that perform critical NS/EP functions, or foreign governments. Typical TSP service users are responsible for the command and control functions critical to management of and response to NS/EP situations, particularly during the first 24 to 72 hours following an event.

Information to request a priority, to obtain a sponsor for requesting a priority, and for other administrative requirements of the program is required from any person or organization having an NS/EP service for which they wish priority restoration from the vendor providing the service. Information is also required to allow immediate installation of a new service to support NS/EP requirements. Information is required from vendors to allow the OEC to track and identify the telecommunications services that are being provided priority treatment.

The forms used are the SF314 (Revalidation for Service Users), SF315 (TSP Request for Service Users), SF317 (TSP Action Appeal for Service Users), SF318 (TSP Service Confirmation for Service Vendors), and the SF319 (TSP Service Reconciliation for Service Vendors). The SF314 is for users to request that their existing TSP codes be revalidated for three more years. The SF315 is used to request restoration and/or provisioning for an organization's critical circuits. The SF317 is for organizations to appeal the denial of TSP restoration and/or provisioning. The SF318 is for service vendors to provide circuit ID information associated with TSP codes they've been given by their customers. The SF319 is for service vendors to provide data to the program office in order to reconcile their TSP data with the TSP database. Participants request TSP priorities via email in order to reduce the use of the paper forms. The paper forms will also be available for download via the TSP home page.

There have been no changes to the information being collected. The burden for the SF315 Form has increased due to better estimates, and the annual cost burden to respondents and annual government cost has increased due to increased wage rates and compensation factors.

This is a renewal of an information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: Telecommunications Service Priority System.

OMB Control Number: 1670-0005.

Frequency: Annually.

Affected Public: State, Local, Tribal, and Territorial Governments and Private Sector.

Number of Respondents: 38,666.

Estimated Time per Respondent: 0.64 hours.

Total Burden Hours: 10,354 hours.

Total Burden Cost (capital/startup): $0.

Total Recordkeeping Burden: $0.

Total Burden Cost (operating/maintaining): $0.

David Epperson,
Chief Information Officer.

[FR Doc. 2018-22549 Filed 10-16-18; 8:45 am]

BILLING CODE 9110-9P-P